DEPARTMENT OF EDUCATION

President's Board of Advisors on Historically Black Colleges and Universities

AGENCY: President's Board of Advisors on Historically Black Colleges and Universities, Office of the Secretary, U.S. Department of Education.

ACTION: Announcement of an open meeting.

SUMMARY: This notice sets forth the agenda for the fall 2024 meeting of the President's Board of Advisors on Historically Black Colleges and Universities (Board) and provides information to members of the public about how to attend the meeting, request to make oral comments at the meeting, and submit written comments pertaining to the work of the Board.

DATES: On Thursday, September 19, 2024, the Board will hold a hybrid meeting from 10:30 a.m. to 3:30 p.m. E.D.T. in the Liberty Ballroom of the Philadelphia Marriott Downtown located at 1201 Market Street, Philadelphia, PA 19107.

FOR FURTHER INFORMATION CONTACT: Sedika Franklin, Associate Director/Designated Federal Official, U.S. Department of Education, White House Initiative on Historically Black Colleges and Universities, 400 Maryland Avenue SW, Washington, DC 20202 or by email at sedika.franklin@ed.gov.

SUPPLEMENTARY INFORMATION:

The Board's Statutory Authority and Function: The Board is established by 20 U.S.C. 1063e (the HBCUs Partners Act) and Executive Order 14041 (September 3, 2021) and is continued by Executive Order 14109 (September 29, 2023). The Board is also governed by the provisions of 5 U.S.C. chapter 10 (commonly known as the Federal Advisory Committee Act), which sets forth standards for the formation and use of advisory committees. The purpose of the Board is to advise the President, through the White House Initiative on Historically Black Colleges and Universities (Initiative), on all matters pertaining to strengthening the educational capacity of Historically Black Colleges and Universities (HBCUs).

The Board advises the President in the following areas: (i) improving the identity, visibility, and distinctive capabilities and overall competitiveness of HBCUs; (ii) engaging the philanthropic, business, government, military, homeland-security, and education communities in a national dialogue regarding new HBCU programs and initiatives; (iii) improving the ability of HBCUs to remain fiscally secure institutions that can assist the Nation in achieving its educational goals and in advancing the interests of all Americans; (iv) elevating the public awareness of, and fostering appreciation of, HBCUs; (v) encouraging public-private investments in HBCUs; and (vi) improving government-wide strategic planning related to HBCU competitiveness to align Federal resources and provide the context for decisions about HBCU partnerships, investments, performance goals, priorities, human capital development, and budget planning. Notice of the meeting is required by 5 U.S.C. Chapter 10 (commonly known as the Federal Advisory Committee Act) and is intended to notify the public of an opportunity to attend the meeting.

Meeting Agenda: The meeting agenda will include roll call; approval of the minutes from the April 18, 2024, Board meeting; welcome remarks from the Board Chair and Vice Chair; a Biden-Harris Administration update from the White House Office of Public Engagement; an update from the Under Secretary of the U.S. Department of Education; an update from the Executive Director of the Initiative; a briefing on the status of the Departments of Education and Agriculture's Letter to States on the unequitable funding of 1890 institutions; a review of the 2023 Report to the President with presentations from invited advocacy groups (UNCF, Thurgood Marshall College Fund, and NAFEO); and a discussion on the history of voting rights and HBCUs. The public comment period will begin immediately following the conclusion of such discussions. The Board will hold a vote on recommendations presented by its subcommittees and/or any final elements of its report to the President.

Access to the Meeting: An advance RSVP is not required to attend the meeting. The public may join the meeting virtually or in person. The public may virtually join the meeting by computer at the following link: https://events.intellor.com/login/507130 or by phone at 1-202-735-3323 with access code 7347197#.

To virtually join the meeting, please click on the appropriate link, enter your name, email address, and organization, and follow the prompts to connect to the meeting audio by computer or telephone. Members of the public may virtually join the meeting 5 minutes prior to its start time. Members of the public joining by phone will be automatically placed in listen only mode.

Members of the public may also join in person. The meeting will take place in the Liberty Ballroom of the Philadelphia Marriott Downtown located at 1201 Market Street, Philadelphia, PA 19107. There will be signs in the building directing you to the meeting space.

Submission of requests to make an oral comment: There will be an allotted time for oral comment at the meeting. The public may submit a request to make oral comment by sending a note via the chat function to the Host and Presenters of the meeting. Please include “Oral Comment Request” in the note and provide the name, title, organization/affiliation, and email address of the person requesting to speak. Those joining by phone will be given instructions by the event producer on how to make oral comment. Those joining in person may submit a request at the registration desk in the meeting room. The Designated Federal Official will call upon each requestor in the order in which the requests were received. Those in the room will be called on first followed by those online. Each individual who makes a request will have an opportunity to speak for up to two minutes. All oral comments will become part of the official record of the meeting.

Access to Records of the Meeting: The Department will post the official report of the meeting on the Board's website, https://sites.ed.gov/whhbcu/policy/presidents-board-of-advisors-pba-on-hbcus, no later than 90 days after the meeting. Pursuant to 5 U.S.C. 1009(b), the public may also inspect the meeting materials and other Board records at 400 Maryland Avenue SW, Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice at least two weeks before the meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: HBCUs Partners Act, Presidential Executive Order 14041, continued by Executive Order 14109.

Alexis Barrett,
Chief of Staff, Office of the Secretary.

[FR Doc. 2024-18903 Filed 8-22-24; 8:45 am]

BILLING CODE 4000-01-P